DEPARTMENT OF DEFENSE

Office of the Secretary

Defense Science Board; Notice of Federal Advisory Committee Meeting

AGENCY: Under Secretary of Defense for Research and Engineering, Department of Defense.

ACTION: Notice of Federal Advisory Committee meeting.

SUMMARY: The Department of Defense (DoD) is publishing this notice to announce that the following Federal Advisory Committee meeting of the Defense Science Board (DSB) will take place.

DATES: Closed to the public Thursday, February 8, 2018 from 8:25 a.m. to 5:00 p.m.

ADDRESSES: The address of the closed meeting is the SECDEF Cables conference room 3D921 at the Pentagon, Washington, DC.

FOR FURTHER INFORMATION CONTACT: Defense Science Board Designated Federal Officer (DFO) Mr. Edward C. Gliot, (703) 571-0079 (Voice), (703) 697-1860 (Facsimile), edward.c.gliot.civ@mail.mil (Email). Mailing address is Defense Science Board, 3140 Defense Pentagon, Room 3B888A, Washington, DC 20301-3140. Website: http://www.acq.osd.mil/dsb/. The most up-to-date changes to the meeting agenda can be found on the website.

SUPPLEMENTARY INFORMATION: Due to circumstances beyond the control of the Department of Defense (DoD) and the Designated Federal Officer, the Defense Science Board was unable to provide public notification required by 41 CFR 102-3.150(a) concerning the meeting on February 8, 2018, of the Defense Science Board. Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The mission of the DSB is to provide independent advice and recommendations on matters relating to the DoD's scientific and technical enterprise. The objective of the meeting is to obtain, review, and evaluate classified information related to the DSB's mission. DSB membership will meet with DoD Leadership to discuss current and future national security challenges within the DoD. This meeting will focus on matters related to the National Defense Strategy, Nuclear Posture Review, and Ballistic Missile Defense Review.

Agenda: The DSB Winter meeting will occur on February 8, 2018 at 8:25 a.m. with opening remarks by Edward Gliot, DFO, and DSB Chairman, Dr. Craig Fields. The first presentation will be from Rear Admiral Hill, Deputy Director of the Missile Defense Agency, who will provide a classified briefing on the views and priorities of the current administration on the Missile Defense initiatives. Following Rear Admiral Hill, Mr. Roberts, Assistant Secretary of Defense (Nuclear, Chemical & Biological Defense Programs), will provide a classified briefing on the views and priorities of the current administration with regard to Nuclear, Chemical & Biological Defense challenges. Following lunch deliberations regarding classified national security policy topics in preparation for the afternoon meetings, Mr. Trachtenberg, Deputy Under Secretary of Defense for Policy, and Mr. Colby, Deputy Assistant Secretary of Defense, Strategy & Force Development, will provide a classified briefing and engage in discussion on the National Defense Strategy. The next briefing will be from Mr. Soofer, Deputy Assistant Secretary of Defense, Nuclear and Missile Defense Policy, and Mr. Weaver, Deputy Director for Strategic Stability, Joint Staff J5, who will provide a classified briefing and engage in discussion on the Nuclear Posture Review. Following a discussion about the Nuclear Posture Review, Mr. Soofer will provide a classified briefing and engage in discussion on the Missile Defense Review. The final presentation of the day will be remarks from the National Security Advisor to the President, Lieutenant General McMaster who will provide a classified briefing on the National Security Strategy. The meeting will adjourn at 5:00 p.m.

Meeting Accessibility: In accordance with section 10(d) of the FACA and 41 CFR 102-3.155, the DoD has determined that the DSB meeting will be closed to the public. Specifically, the Performing the Duties of the Under Secretary of Defense for Research and Engineering, in consultation with the DoD Office of General Counsel, determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense for Research and Engineering.

Written Statements: In accordance with section 10(a)(3) of the FACA and 41 CFR 102-3.105(j) and 102-3.140, interested persons may submit a written statement for consideration by the DSB at any time regarding its mission or in response to the stated agenda of a planned meeting. Individuals submitting a written statement must submit their statement to the Defense Science Board DFO provided in the FOR FURTHER INFORMATION CONTACT section at any point; however, if a written statement is not received at least 3 calendar days prior to the meeting, which is the subject of this notice, then it may not be provided to or considered by the DSB until a later date.

Dated: February 7, 2018.
Aaron Siegel,
Alternate OSD Federal Register Liaison Officer, Department of Defense.

[FR Doc. 2018-02742 Filed 2-9-18; 8:45 am]

BILLING CODE 5001-06-P